DEPARTMENT OF HEALTH AND HUMAN SERVICES

Centers for Medicare & Medicaid Services

[Document Identifiers: CMS-40B, CMS-2088-92, CMS-10260, and CMS-L564 and CMS-10501]

Agency Information Collection Activities: Proposed Collection; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including any of the following subjects: the necessity and utility of the proposed information collection for the proper performance of the agency's functions; the accuracy of the estimated burden; ways to enhance the quality, utility, and clarity of the information to be collected; and the use of automated collection techniques or other forms of information technology to minimize the information collection burden.

DATES: Comments must be received by December 23, 2013.

ADDRESSES: When commenting, please reference the document identifier or OMB control number (OCN). To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address:

CMS, Office of Strategic Operations and Regulatory Affairs, Division of Regulations Development, Attention: Document Identifier/OMB Control Number ____, Room C4-26-05, 7500 Security Boulevard, Baltimore, Maryland 21244-1850.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326

SUPPLEMENTARY INFORMATION:

Contents

This notice sets out a summary of the use and burden associated with the following information collections. More detailed information can be found in each collection's supporting statement and associated materials (see ADDRESSES).

CMS-40B Application for Enrollment in Medicare the Medical Insurance Program

CMS-2088-92 Outpatient Rehabilitation Facility, Community Mental Health Center Cost Report and Supporting Regulations

CMS-10260 Medicare Advantage and Prescription Drug Program: Final Marketing Provisions

CMS-L564 Request for Employment Information

CMS-10501 Healthcare Fraud Prevention Partnership (HFPP): Data Sharing and Information Exchange

Under the Paperwork Reduction Act (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collections

1. Type of Information Collection Request: New collection (Request for a new OMB control number); Title of Information Collection: Application for Enrollment in Medicare the Medical Insurance Program; Use: Form CMS-40B is used to establish entitlement to and enrollment in supplementary medical insurance for beneficiaries who already have Part A, but not Part B. The form solicits information that is used to determine enrollment for individuals who meet the requirements in section 1836 of the Social Security Act as well as the entitlement of the applicant or a spouse regarding a benefit or annuity paid by the Social Security Administration or the Office of Personnel Management for premium deduction purposes. The Social Security Administration will use the collected information to establish Part B enrollment. Form Number: CMS-40B (OCN: 0938-New); Frequency: Once; Affected Public: Individuals or households; Number of Respondents: 200,000; Total Annual Responses: 200,000; Total Annual Hours: 50,000. (For policy questions regarding this collection contact Lindsay Smith at 410-786-6843.)

2. Type of Information Collection Request: Extension of a currently approved collection; Title of Information Collection: Outpatient Rehabilitation Facility, Community Mental Health Center Cost Report and Supporting Regulations; Use: The cost reports are required to be filed with the provider's Medicare Administrative Contractor (MAC). The MAC uses the cost report to calculate the provider's cost to charge ratios which are used to compute outlier payments and to determine a provider's final cost settlement by comparing the provider's interim payments received to the reasonable cost for the fiscal period covered by the cost report.

The collection of data is a secondary function of the cost report. We use the data to support program operations, payment refinement activities, and to make Medicare Trust Fund projections. The data is also used by CMS and other stakeholders to analyze a myriad of health care measures on a national level. Stakeholders include the Office of Management and Budget, the Congressional Budget Office, Medicare Payment Advisory Commission, Congress, researchers, universities, and other interested parties. Form Number: CMS-2088-92 (OCN: 0938-0037); Frequency: Yearly; Affected Public: Private sector (Business or other for-profits and Not-for-profit institutions); Number of Respondents: 540; Total Annual Responses: 540; Total Annual Hours: 54,000. (For policy questions regarding this collection contact Jill Keplinger at 410-786-4550.)

3. Type of Information Collection Request: Reinstatement with change of a previously approved collection; Title of Information Collection: Medicare Advantage and Prescription Drug Program: Final Marketing Provisions; Use: We require that Medicare Advantage (MA) organizations and Part D sponsors use standardized documents to satisfy disclosure requirements mandated by section 1851(d)(3)(A) of the Social Security Act (Act) and 42 CFR 422.111(b) for MA organizations, and section 1860D-1(c) of the Act and 42 CFR 423.128(a)(3) for Part D sponsors. The regulatory provisions require that MA organizations and Part D sponsors disclose plan information, including: service area, benefits, access, grievance and appeals procedures, and quality improvement and quality assurance requirements by September 30th of each year. The MA organizations and Part D sponsors use the information to comply with the disclosure requirements. We will use the approved standardized documents to ensure that correct information is disclosed to current and potential enrollees. Form Number: CMS-10260 (OCN: 0938-1051); Frequency: Yearly; Affected Public: Private sector (Business or other for-profits); Number of Respondents: 770; Total Annual Responses: 770; Total Annual Hours: 9,240. (For policy questions regarding this collection contact Timothy Roe at 410-786-2006.)

4. Type of Information Collection Request: Revision of a currently approved collection; Title of Information Collection: Request for Employment Information; Use: Section 1837(i) of the Social Security Act provides for a special enrollment period for individuals who delay enrolling in Medicare Part B because they are covered by a group health plan based on their own or a spouse's current employment status. Disabled individuals with Medicare may also delay enrollment because they have large group health plan coverage based on their own or a family member's current employment status. When these individuals apply for Medicare Part B, they must provide proof that the group health plan coverage is (or was) based on current employment status. Form Number: CMS-L564 (OCN: 0938-0787); Frequency: Once; Affected Public: Private sector (Business or other for-profits and Not-for-profit institutions); Number of Respondents: 15,000; Total Annual Responses: 15,000; Total Annual Hours: 5,000. (For policy questions regarding this collection contact Lindsay Smith at 410-786-6843)

5. Type of Information Collection Request: New collection (Request for a new OMB control number); Title of Information Collection: Healthcare Fraud Prevention Partnership (HFPP): Data Sharing and Information Exchange; Use: Section 1128C(a)(2) of the Social Security Act (42 U.S.C. § 1320a-7c(a)(2)) authorizes the Secretary and the Attorney General to consult with, and arrange for the sharing of data with representatives of health plans to establish a Fraud and Abuse Control Program as specified in Section 1128(C)(a)(1) of the Social Security Act. This is known as the Healthcare Fraud Prevention Partnership (HFPP). It was officially established by a Charter in fall 2012 and signed by HHS Secretary Sibelius and U.S. Attorney General Holder. The HFPP is a joint initiative established by the Department of Health and Human Services (HHS) and Department of Justice (DOJ) to detect and prevent the prevalence of healthcare fraud through data and information-sharing and applying analytic capabilities by the public and private sectors. The HFPP collaboration provides a unique opportunity to transition from traditional “pay and chase” approaches for fraud detection and recovery towards a data-driven model for identifying and predicting aberrant activity. A central goal of the HFPP is to identify the optimal way to coordinate nationwide sharing of health care claims information, including aggregating claims and payment information from large public healthcare programs and private insurance payers. In addition to sharing data and information, the HFPP is focused on advancing analytics, training, outreach, education to support anti-fraud efforts and achieving its objectives, primarily through goal-oriented, well-designed fraud studies. Form Number: CMS-10501 (OCN: 0938-New); Frequency: Occasionally; Affected Public: Private sector (Business or other for-profits); Number of Respondents: 75; Total Annual Responses: 75; Total Annual Hours: 180,000. (For policy questions regarding this collection contact Johnalyn Lyles at 410-786-8410.)

Dated: October 18, 2013.
Martique Jones,
Deputy Director, Regulations Development Group, Office of Strategic Operations and Regulatory Affairs.

[FR Doc. 2013-24854 Filed 10-22-13; 8:45 am]

BILLING CODE 4120-01-P